DEPARTMENT OF THE INTERIOR

National Park Service

[NPS-WASO-NRNHL-DTS#-34306; PPWOCRADI0, PCU00RP14.R50000]

National Register of Historic Places; Notification of Pending Nominations and Related Actions

AGENCY: National Park Service, Interior.

ACTION: Notice.

SUMMARY: The National Park Service is soliciting electronic comments on the significance of properties nominated before July 30, 2022, for listing or related actions in the National Register of Historic Places.

DATES: Comments should be submitted electronically by August 25, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 30, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

DELAWARE

New Castle County

Dauneport House, 420 Old Kennett Rd., Wilmington vicinity, SG100008081

NEW YORK

Erie County

Buffalo Public School #92-PS 92, 340 Fougeron St., Buffalo, SG100008007

Niagara County

Hall Apartments, 550-552 3rd St., Niagara Falls, SG100008112

Sagamore Apartments and Shops The, 518-524, 530 Main St., Niagara Falls, SG100008113

Suffolk County

Carll House (Boundary Decrease), (Huntington Town MRA), 380 Deer Park Rd., Dix Hills, BC100008114

Crest, The (Boundary Increase), (Huntington Town MRA), 563 Asharoken Ave., Huntington, BC100008116

OHIO

Lucas County

Toledo City Market, 201-237 South Erie St., Toledo, SG100008069

PUERTO RICO

Comerio Municipality

Comerio Hydroelectric Development, PR167, Km. 3.9 to 6.0, Comerio vicinity, SG100008110

Loiza Municipality

Roberto Clemente Walker Crash Site, PR 187 km. 6, Punta Maldonado and 1.5 nautical mi. offshore in the Atlantic Ocean, Loíza vicinity, SG100008070

San Juan Municipality

Escuela Ruiz Belvis, (Early Twentieth Century Schools in Puerto Rico TR), Fernandez Juncos Ave. (formerly known as Carretera Nueva), Stop 16½, San Juan, MP100008115

VIRGINIA

Albemarle County

La Fourche, 3555 Keswick Rd., Keswick, SG100008082

Pittsylvania County

Gosney Store, North corner of jct. of VA 360E (Old Richmond Rd.) and VA 726N (Malmaison Rd.), Blairs vicinity, SG100008083

Virginia Beach Independent City

L & J Gardens Neighborhood Historic District, Northampton Blvd., Norwich Ave., Maywood Blvd., and Wesleyan Dr., Virginia Beach, SG100008084

WEST VIRGINIA

Greenbrier County

Rupert School, 253 Church St., Rupert, SG100008074

Jefferson County

Haines, Nathan, Farm, 1642 Lloyd Rd., Charles Town, SG100008071

Weirick and Weller Waterwheel, 6517 Kabletown Rd., Charles Town, SG100008072

Ohio County

North Wheeling Historic District (Boundary Increase), Inclusive of area encompassed by Northern Pkwy, Ohio R., 6th St., and bluff to the east., Wheeling, BC100008073

WISCONSIN

Dane County

Owen, Ray S. and Theo P., House, 5805 Winnequah Rd., Monona, SG100008108

Jackson County

Millston Union Church, W6647 Berry St., Millston, SG100008109

Additional documentation has been received for the following resources:

MINNESOTA

Hennepin County

Minnetonka Town Hall (Additional Documentation), 13231 Minnetonka Dr., Minnetonka, AD8600381

TENNESSEE

Blount County

Brickey, Peter, House (Additional Documentation) (Blount County MPS), Wears Valley Rd., 0.1 mi. west of Bonner Hollow Rd., Townsend vicinity, AD89000869

Coffee County

Coffee County Courthouse (Additional Documentation), Public Sq., Manchester, AD74001905

Gibson County

Gibson County Courthouse (Additional Documentation), Court Sq., Trenton, AD76001777

Grundy County

Coalmont Bank Building (Additional Documentation) (Grundy County MRA), Jct. of TN 56 and Heidenburg St., Coalmont, AD91000246

Hamilton County

Oak Grove Elementary School (Additional Documentation) 1912 South Willow St., Chattanooga, AD11000420

Henry County

White, Charles M., House (Additional Documentation) (Paris MRA) 403 Whitehall Circle, Paris, AD88001425

Loudon County

Loudon County Courthouse (Additional Documentation) Grove and Mulberry Sts., Loudon, AD75001768

Shelby County

Lee, Lt. George W., House (Additional Documentation), 563 Stephens Pl., Memphis, AD94000372

Wayne County

First Presbyterian Church of Clifton (Additional Documentation), Main St., Clifton, AD88000172

VERMONT

Caledonia County

Summer Street Historic District (Additional Documentation), (St. Johnsbury MPS) 4—88 Summer St., 17 Central St. and 11, 16, 17 and 18 Church St., St. Johnsbury, AD94000634

Nominations submitted by Federal Preservation Officers:

The State Historic Preservation Officer reviewed the following nominations and responded to the Federal Preservation Officer within 45 days of receipt of the nominations and supports listing the properties in the National Register of Historic Places.

MONTANA

Gallatin County

Shenango Work Station, Custer Gallatin NF Storm Castle Rd., Gallatin Gateway vicinity, SG100008100

NEW YORK

Erie County

Buffalo Veterans Hospital Historic District, (United States Third Generation Veterans Hospitals, 1946-1958 MPS), 3495 Bailey Ave, Buffalo, MP100008102

Authority: Section 60.13 of 36 CFR part 60

Dated: August 3, 2022.
Sherry A. Frear,
Chief, National Register of Historic Places/National Historic Landmarks Program.

[FR Doc. 2022-17145 Filed 8-9-22; 8:45 am]

BILLING CODE 4312-52-P